DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 23, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on March 4, 2015.
Donald Burger,
Chief, General Approvals and Permits.

New Special Permits
Application No. | Docket No. | Applicant | Regulation(s) affected | Nature of special permits thereof
16396-N |  | Eniware L.L.C., Washington, DC | 49 CFR 172.101 Hazardous Materials Table Columns (9A) and (9B), 173.4a(b), (c), (d), and (e)(3), IMDG Code Sections 3.5.1.1.1, 3.5.1.2, and 3.5.2.1.3, ICAO TI Table 3-1 Columns 10 through 13, 3;5.1.1 c), and 3;5.1.2 | To authorize the manufacture, mark, sale and use of sterilization devices containing two toxic gases in non-DOT specification containers (steel gas cartridges) as excepted quantities. (modes 1,2,3,4,5)
16408-N |  | Carleton Technologies, Inc., Westminster, MD | 49 CFR 173.302a(a)(1), 173.304a(a)(1), 180.205 | To authorize the manufacture, mark, sale and use of carbon and glass fiber reinforced, non-refillable, aluminum lined composite non-DOT specification cylinders. (modes 1,2,3,4,5)
16410-N |  | Snap-on, Inc., Kenosha, WI | 49 CFR 172.301(c), 173.185(c) (1)(iii), 173.185(c) (3)(i) | To authorize the transportation in commerce of packages containing lithium cells and batteries without the markings or labels required in §§ 173.185(c)(1)(iii) and 173.185(c)(3)(i) when contained in overpacks and transported via motor vehicle between Snap-on, Inc. distribution centers. (mode 1)
16413-N |  | Amazon.com, Inc., Seattle, WA | 49 CFR 172.301(c), WA 173.185(c)(1)(iii), 173.185(c)(3)(i) | To authorize the transportation in commerce of packages containing lithium cells and batteries without the markings or labels required in §§ 173.185(c)(1)(iii) and 173.185(c)(3)(i) when contained in overpacks and transported via motor vehicle between the grantee and Amazon.com, Inc.'s distribution centers that hold party status to this special permit. (mode 1)
16414-N |  | Air Products and Chemicals, Inc., Allentown, PA | 49 CFR 178.338 | To authorize the manufacture mark and sell of MC338 cargo tanks built to ASME Section XII standards (version in effect at time of manufacture) and stamping them with a “T” stamp associated with that section rather than the “U” stamp of current Federal Regulations. (modes 1, 3)
16415-N |  | Volkswagen Group of America (VWGoA), Herndon, VA | 49 CFR 173.302a | To authorize the transportation in commerce of certain Division 2.1 and 2.2 compressed gases in non-DOT specification cylinders. (modes 1, 3, 4, 5)

[FR Doc. 2015-06469 Filed 3-23-15; 8:45 am]

BILLING CODE 4909-60-M